DEPARTMENT OF HOMELAND SECURITY

Federal Emergency Management Agency

44 CFR Part 67

[Docket No. FEMA-P-7689]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority o § 67.4 are proposed to be amended as follows:

Source of flooding and location of referenced elevation | ◆Elevation in feet (NAVD): Existing | ◆Elevation in feet (NAVD): Modified | Communities affected
Little Red River:
Approximately 53.48 miles upstream of the confluence with the White River | None | ◆248 | Cleburne County (Unincorporated Areas).
Approximately 79.10 miles upstream of the confluence with the White River | None | ◆299
Sulphur Creek:
Approximately 120 feet downstream of Libby Road | None | ◆281 | City of Heber Springs, Cleburne County (Unincorporated Areas).
Approximately 1,900 feet upstream of Libby Road | None | ◆289
Cleburne County (Unincorporated Areas)
Maps are available for inspection at 301 West Main Street, Heber Springs, Arkansas.
Send comments to The Honorable Claude Dill, County Judge, Cleburne County, 301 West Main Street, Heber Springs, Arkansas 72543.
City of Heber Springs
Maps are available for inspection at 1001 West Main Street, Heber Springs, Arkansas.
Send comments to The Honorable Paul Muse, Mayor, City of Heber Springs, 1001 West Main Street, Heber Springs, Arkansas 72543.
Gold Creek (South):
Approximately 1050 feet downstream of Sturges Road | ◆272 | ◆273 | City of Conway.
Approximately 2,700 feet upstream of Wasson Road | None | ◆323
Middle Fork Cypress Bayou:
At confluence with Cypress Bayou | None | ◆288 | City of Vilonia, Faulkner County (Unincorporated Areas).
Approximately 440 feet upstream of Marshall Road | None | ◆319
North Fork Cypress Bayou:
At confluence with Cypress Bayou | None | ◆288 | City of Vilonia Faulkner County (Unincorporated Areas).
Approximately 730 feet upstream of North Marshall Road | None | ◆329
Palarm Creek:
At State Highway 286 | None | ◆276 | Faulkner County (Unincorporated Areas).
Approximately 4,180 feet upstream of State Highway 36 | None | ◆318
South Fork Cypress Bayou:
At confluence with Cypress Bayou | None | ◆288 | City of Vilonia Faulkner County (Unincorporated Areas).
Approximately 115 feet upstream of Church Street | None | ◆320
Warren Creek:
At confluence with Palarm Creek | None | ◆276 | Faulkner County (Unincorporated Areas).
Approximately 530 feet upstream of Lower Ridge Road | None | ◆312
City of Conway, Faulkner County, Arkansas
Maps are available for inspection at the City of Conway, 100 East Robins, Conway, Arkansas.
Send comments to The Honorable Tab Towsell, Mayor, City of Conway, 1201 Oak Street, Conway, Arkansas 72032.
Faulkner County (Unincorporated Areas), Arkansas
Maps are available for inspection at Faulkner County Emergency Management, 801 Locust Street, Conway, Arkansas.
Send comments to The Honorable Wayne Carter, Faulkner County Judge, 801 Locust Street, Conway, Arkansas 72034.
City of Vilonia, Faulkner County, Arkansas
Maps are available for inspection at Vilonia City Hall, 1113 Main Street, Vilonia, Arkansas.
Send comments to The Honorable Alan Lee, Mayor, City of Vilonia, 1013 Main Street, Vilonia, Arkansas 72173.
Ohio River:
Approximately 3.5 miles upstream of the confluence of Little Yellow Creek | ◆687 | ◆688 | City of East Liverpool, Columbiana County.
Approximately 6.3 miles upstream of the confluence of Little Yellow Creek | ◆689 | ◆690
Maps are available for inspection at the Planning Department, 126 West Sixth Street, East Liverpool, Ohio.
Send comments to The Honorable Dolores Satow, Mayor, City of East Liverpool, 126 West Sixth Street, East Liverpool, Ohio 43920.
Duck Creek:
Mouth at Ohio River | ◆615 | ◆616 | City of Marietta, Washington County (Unincorporated Areas).
Approximately 4,400 feet upstream of State Highway 26 | ◆615 | ◆616
Muskingum River:
Mouth at the Ohio River | ◆614 | ◆615 | City of Marietta, Washington County (Unincorporated Areas).
Approximately 16,400 feet upstream of mouth | ◆614 | ◆615
Ohio River:
Approximately 0.4 mile downstream of U.S. Highway 50 | ◆608 | ◆609 | City of Belpre, City of Marietta, Washington County (Unincorporated Areas).
Approximately 7.25 miles upstream of Willow Island Lock and Dam | ◆616 | ◆617
Washington County (Unincorporated Areas), Ohio
Maps are available for inspection at the Building Department, 217 Putnam Street, Marietta, Ohio.
Send comments to Ms. Connie J. Hoblitzell, Floodplain Manager, 217 Putnam Street, Marietta, Ohio 45750.
City of Belpre, Washington County, Ohio
Maps are available for inspection at City Hall, 715 Park Drive, Belpre, Ohio.
Send comments to Robert G. Boersma, Safety Service Director, 715 Park Drive, Belpre, Ohio 45714.
City of Marietta, Washington County, Ohio.
Maps are available for inspection at City Hall, 301 Putnam Street, Marietta, Ohio.
Send comments to Wayne Rinehart, Floodplain Manager, 301 Putnam Street, Marietta, Ohio 45750.

(Catalog of Federal Domestic Assistance No. 83.100, “Flood Insurance.”)
Dated: May 18, 2005.
David I. Maurstad,
Acting Director, Mitigation Division, Emergency Preparedness and Response Directorate.

[FR Doc. 05-10300 Filed 5-23-05; 8:45 am]

BILLING CODE 9110-12-P